DEPARTMENT OF VETERANS AFFAIRS

Veterans' Advisory Committee on Rehabilitation; Notice of Meeting

The Department of Veterans Affairs (VA) gives notice under the Federal Advisory Committee Act, 5 U.S.C. App. 2, that a meeting of the Veterans' Advisory Committee on Rehabilitation (VACOR) will be held on December 12th-13th, 2016 in Conference Room 542 at the Department of Veterans Affairs, 1800 G Street NW., Washington, DC 20006. The meeting will begin at 9:00 a.m. (EST) and adjourn at 5:00 p.m. (EST) each day. The meeting is open to the public.

The purpose of the Committee is to provide advice to the Secretary on the rehabilitation needs of Veterans with disabilities and on the administration of VA's rehabilitation programs.

During the meeting, Committee members will be provided updated briefings on various VA programs designed to enhance the rehabilitative potential of recently-discharged Veterans. Members will also begin consideration of potential recommendations to be included in the Committee's next annual report.

Although no time will be allocated for receiving oral presentations from the public, members of the public may submit written statements for review by the Committee to Anthony Estelle, Designated Federal Officer, Veterans Benefits Administration (28), 810 Vermont Avenue NW., Washington, DC 20420, or via email at anthony.estelle@va.gov. In the communication, writers must identify themselves and state the organization, association or person(s) they represent. Individuals who wish to attend the meeting should RSVP to Anthony Estelle at (202) 461-9912, no later than close of business, December 5, 2016. Because the meeting is being held in a government building, a photo I.D. must be presented at the Guard's Desk as a part of the clearance process. Due to an increase in security protocols, and in order to prevent delays in clearance processing, you should allow an additional 30 minutes before the meeting begins. Any member of the public seeking additional information should contact Anthony Estelle at the phone number or email address noted above.

Dated: November 9, 2016.
LaTonya L. Small,
Advisory Committee Management Officer.

[FR Doc. 2016-27457 Filed 11-15-16; 8:45 am]

BILLING CODE 8320-01-P